DEPARTMENT OF THE INTERIOR

Bureau of Ocean Energy Management

[MMAA104000]

Notice of Intent To Reschedule Public Meetings for the Draft Programmatic Environmental Impact Statement for the Outer Continental Shelf (OCS) Oil and Gas Leasing Program: 2017-2022

AGENCY: Bureau of Ocean Energy Management (BOEM), Interior.

ACTION: Rescheduling of public meetings.

SUMMARY: BOEM is rescheduling meetings previously scheduled to be held in Washington, DC (April 4, 2016); Houston, TX (April 12, 2016); and New Orleans, LA (April 14, 2016) to elicit comments on the OCS Oil and Gas Leasing Program 2017-2022 Draft Programmatic Environmental Impact Statement (Draft Programmatic EIS), which has been prepared by BOEM to support the Proposed OCS Oil and Gas Leasing Program for 2017-2022 (2017-2022 Program). Rescheduled meetings will occur before the conclusion of the timeframe provided for public comments on the Draft Programmatic EIS (May 2, 2016). Rescheduled meetings will be announced through publication of a notice in the Federal Register and at www.boemoceaninfo.com. All other public meetings scheduled for comments on the Draft Programmatic EIS will be held on the dates and at the locations previously announced.

FOR FURTHER INFORMATION CONTACT: Jill Lewandowski, Ph.D., Bureau of Ocean Energy Management, 45600 Woodland Road VAM-OEP, Sterling, VA 20166; Dr. Lewandowski may also be reached by telephone at (703) 787-1703.

SUPPLEMENTARY INFORMATION: Draft Programmatic EIS Availability: Persons interested in reviewing the Draft Programmatic EIS can download it on the Internet at www.boemoceaninfo.com, or may contact BOEM at the address provided above to request a paper copy or a CD/ROM version. Please specify if you wish a CD/ROM or paper copy. If neither is specified, a CD/ROM containing the Draft Programmatic EIS will be provided.

Library Availability: The Draft Programmatic EIS will also be available for review at libraries in states adjacent to the proposed lease sales. These libraries are listed at the Web site www.boemoceaninfo.com.

Public Meetings: The meetings previously scheduled to be held in Washington, DC (April 4, 2016), Houston, TX (April 12, 2016), and New Orleans, LA (April 14, 2016) to elicit comments on the Draft Programmatic EIS are being rescheduled. The rescheduled meetings will be announced through publication of a notice in the Federal Register and at www.boemoceaninfo.com. The rescheduled meetings will be held before the conclusion of the public comment period for the Draft Programmatic EIS (May 2, 2016).

All other public meetings will be held on the scheduled dates and at the locations previously announced:

• Alaska

○ March 29, 2016; Kaktovik Community Center, 2051 Barter Avenue, Kaktovik, Alaska; 7:00-10:00 p.m.

○ March 29, 2016; Northwest Arctic Borough Assembly Chambers, 163 Lagoon Street, Kotzebue, Alaska; 7:00-10:00 p.m.

○ March 30, 2016; Inupiat Heritage Center, 5421 North Star Street, Barrow, Alaska; 7:00-10:00 p.m.

○ March 30, 2016; Kisik Community Center, 2230 2nd Avenue, Nuiqsut, Alaska; 7:00-10:00 p.m.

○ March 31, 2016; Kali School, 1029 Qasigiakik Street, Point Lay, Alaska; 3:00-6:00 p.m.

○ March 31, 2016; City Qalgi Center, Point Hope, Alaska; 7:00-10:00 p.m.

○ March 31, 2016; R. James Community Center, Wainwright, Alaska; 7:00-10:00 p.m.

○ April 4, 2016; Morris Thompson Cultural & Visitors Center, 101 Dunkel Street, Fairbanks, Alaska; 7:00-10:00 p.m.

○ April 5, 2016; Embassy Suites, 600 East Benson Boulevard, Anchorage, Alaska; 3:00-7:00 p.m.; free parking.

○ April 6, 2016; Ninilchik School, 15735 Sterling Highway, Ninilchik, Alaska; 7:00-10:00 p.m.

Additional information: For additional information on the Draft Programmatic EIS and instructions on how to submit comments, please see the Federal Register notice published on March 18, 2016 (81 FR 14885).

Dated: March 29, 2016.
Abigail Ross Hopper,
Director, Bureau of Ocean Energy Management.

[FR Doc. 2016-07695 Filed 3-31-16; 11:15 am]

BILLING CODE 4310-MR-P